DEPARTMENT OF JUSTICE

Antitrust Division

Proposed Termination of Judgment

Notice is hereby given that Defendant General Electric Co. has filed a motion to terminate the Final Judgment in United States v. General Electric Company, et al., Civil Action No. 26012, with the United States District Court for the Northern District of Ohio, and that the Department of Justice, in a stipulation also filed with the Court, has tentatively consented to termination of the Final Judgment, but has reserved the right to withdraw its consent pending receipt of public comments. Acuity Brands, Inc. (successor to Defendant Holophane Co., Inc.), Cooper Industries, Inc. (successor to Defendants Westinghouse Electric Corp. and Line Material Company), and Union Metal Corp. (apparent successor to both Defendant Union Metal Manufacturing Co. and its subsidiary Defendant Pacific Union Metal Co.) all have executed the stipulation, indicating their support for termination of the Final Judgment as to all defendants and successors thereof.

On November 12, 1948, the United States filed its Complaint in this case alleging that defendants conspired to restrain and monopolize the market for street lighting equipment by, among other things, fixing prices, allocating markets, collectively refusing to deal with certain suppliers and customers of street lighting equipment, and entering into exclusive supply or distribution agreements. On May 27, 1952, a Final Judgment was entered with the consent of the parties. The Final Judgment applies to Defendant GE and to corporate successors of all other named defendants. The Final Judgment provisions that remain in effect enjoin and restrain defendants from, among other things, renewing, performing, or enforcing any of the terminated agreements or entering into, performing, or enforcing any other agreements having the same purpose or effect; fixing prices, allocating territories, customers, or markets; exchanging with or disclosing to other street lighting equipment manufacturers competitively sensitive information; collectively refusing to deal with certain suppliers or customers; dealing only exclusively with certain other suppliers or customers; and acquiring any other defendant or street lighting equipment manufacturer. Due to the passage of time and changes in the industry, the United States believes the Final Judgment is no longer necessary to preserve competition in the street lighting equipment business.

The Department has filed with the Court a memorandum setting forth in detail the reasons why the United States believes that termination of the Final Judgment would serve the public interest. Copies of Defendant GE's motion papers, the stipulation containing the Government's tentative consent, the Government's memorandum, and all further papers filed with the Court in connection with this motion will be available for inspection at the Antitrust Documents Group of the Antitrust Division, Room 215, 325 7th Street NW., Liberty Place Building, Washington, DC 20530, and at the Office of the Clerk of the Court, United States District Court for the Northern District of Ohio, 201 Superior Avenue, Cleveland, OH 44114 (216/522-4355). Copies of any of these materials may be obtained from the Antitrust Division upon request and payment of the copying fee set by Department of Justice regulations.

Interested persons may submit comments regarding the proposed termination of the Final Judgment to the Government. Such comments must be received by the Division within sixty (60) days and will be filed with the Court by the Government. Comments should be addressed to James R. Wade, Chief, Litigation III Section, Antitrust Division, Department of Justice, Liberty Place Building, Suite 300, 325 7th Street NW., Washington, DC 20530 (202/616-5935).

Dorothy B. Fountain,
Deputy Director of Operations.

[FR Doc. 02-15327 Filed 6-17-02; 8:45 am]

BILLING CODE 4410-11-M